DEPARTMENT OF HEALTH AND HUMAN SERVICES

Food and Drug Administration

[Docket No. 00N-1529]

Elaine Yee-Ling Lai; Debarment Order; Correction

AGENCY: Food and Drug Administration, HHS.

ACTION: Notice; correction.

SUMMARY: The Food and Drug Administration (FDA) is correcting a notice that appeared in the Federal Register of November 13, 2002 (67 FR 68877). The document announced the issuance of an order under the Federal Food, Drug, and Cosmetic Act debarring Ms. Elaine Yee-Ling Lai for 5 years from providing services in any capacity to a person that has an approved or pending drug product application. The document was published with an inadvertent error. This document corrects that error.

FOR FURTHER INFORMATION CONTACT: Joyce Strong, Office of Policy (HF-27), Food and Drug Administration, 5600 Fishers Lane, Rockville, MD 20857, 301-827-7010.

SUPPLEMENTARY INFORMATION: In FR Doc. 02-28715, appearing on page 68877 in the Federal Register of Wednesday, November 13, 2002, the following correction is made:

1. On page 68877, in the third column, under section II, in the fourth line “(21 CFR 5.99)” is corrected to read “(21 CFR 5.34)”.

Dated: January 14, 2003.
Margaret M. Dotzel,
Assistant Commissioner for Policy.

[FR Doc. 03-1404 Filed 1-22-03; 8:45 am]

BILLING CODE 4160-01-S